SMALL BUSINESS ADMINISTRATION

[Declaration of Disaster #3632]

Commonwealth of Pennsylvania (Amendment #4)

In accordance with a notice received from the Department of Homeland Security—Federal Emergency Management Agency—effective October 19, 2004, the above numbered declaration is hereby amended to include Elk and Potter Counties as disaster areas due to damages caused by Tropical Depression Ivan occurring on September 17, 2004, and continuing through October 1, 2004.

In addition, applications for economic injury loans from small businesses located in the contiguous county of Allegany in the State of New York may be filed until the specified date at the previously designated location. All other counties contiguous to the above named primary counties have previously been declared.

All other information remains the same, i.e., the deadline for filing applications for physical damage is November 18, 2004, and for economic injury the deadline is June 20, 2005.

(Catalog of Federal Domestic Assistance Program Nos. 59002 and 59008).

Dated: October 20, 2004.
Herbert L. Mitchell,
Associate Administrator for Disaster Assistance.

[FR Doc. 04-23959 Filed 10-25-04; 8:45 am]

BILLING CODE 8025-01-P